DEPARTMENT OF THE TREASURY

Internal Revenue Service

20 CFR Part 901

[REG-159704-03]

RIN 1545-BC82

Performance of Actuarial Services Under the Employee Retirement Income Security Act of 1974; Hearing

AGENCY: Internal Revenue Service (IRS), Treasury.

ACTION: Notice of public hearing on proposed rulemaking.

SUMMARY: This document provides notice of a public hearing on proposed regulations relating to the enrollment of actuaries under section 3042 of the Employee Retirement Income Security Act of 1974.

DATES: The public hearing is being held on Thursday, February 25, 2010, at 10 a.m. The IRS has extended the deadline for requests to speak. The IRS must receive requests to speak, along with outlines of the topics to be discussed at the public hearing by January 25, 2010.

ADDRESSES: The public hearing is being held in room 2615 at the Internal Revenue Service Building, 1111 Constitution Avenue, NW., Washington, DC 20224.

Send Submissions to CC:PA:LPD:PR (REG-159704-03), Room 5205, Internal Revenue Service, P.O. Box 7604, Ben Franklin Station, Washington, DC 20044. Submissions may be hand-delivered Monday through Friday to CC:PA:LPD:PR (REG-159704-03), Couriers Desk, Internal Revenue Service, 1111 Constitution Avenue, NW., Washington, DC or sent electronically via the Federal e-rulemaking Portal at http://www.regulations.gov IRS-REG-159704-03.

FOR FURTHER INFORMATION CONTACT: Concerning the regulations, Patrick McDonough at (202) 622-8225; concerning submissions of comments, the hearing and/or to be placed on the building access list to attend the hearing Oluwafunmilayo Taylor at (202) 622-7180 (not toll-free numbers).

SUPPLEMENTARY INFORMATION:

The subject of the public hearing is the notice of proposed rulemaking (REG-159704-03) that was published in the Federal Register on Monday, September 21, 2009 (74 FR 48030).

The rules of 26 CFR 601.601(a)(3) apply to the hearing. Persons who wish to present oral comments at the hearing must submit an outline of the topics to be addressed and the amount of time to be denoted to each topic (Signed original and two copies) by January 25, 2010.

A period of 10 minutes is allotted to each person for presenting oral comments. After the deadline for receiving outlines has passed, the IRS will prepare an agenda containing the schedule of speakers. Copies of the agenda will be made available, free of charge, at the hearing or in the Freedom of Information Reading Room (FOIA RR) (Room 1621) which is located at the 11th and Pennsylvania Avenue, NW., entrance, 1111 Constitution Avenue, NW., Washington, DC.

Because of access restrictions, the IRS will not admit visitors beyond the immediate entrance area more than 30 minutes before the hearing starts. For information about having your name placed on the building access list to attend the hearing, see the “FOR FURTHER INFORMATION CONTACT” section of this document.

LaNita VanDyke,
Chief, Publications and Regulations Branch, Legal Processing Division, Associate Chief Counsel (Procedure and Administration).

[FR Doc. E9-29752 Filed 12-14-09; 8:45 am]

BILLING CODE 4830-01-P